OFFICE OF THE UNITED STATES TRADE REPRESENTATIVE

Adjustment to Specialty Sugar Tariff-Rate Quota Tranches and Opening Dates

AGENCY: Office of the United States Trade Representative.

ACTION: Notice.

SUMMARY: The Office of the United States Trade Representative (USTR) is providing notice of a change in the quantity, and opening dates, for the fourth and fifth tranches of the specialty sugar tariff-rate quota (TRQ).

DATES: This notice is applicable on March 30, 2020.

FOR FURTHER INFORMATION CONTACT: Dylan Daniels, Office of Agricultural Affairs, at (202) 395-9583 or Dylan.Daniels@ustr.eop.gov.

SUPPLEMENTARY INFORMATION: Pursuant to Additional U.S. Note 5 to Chapter 17 of the Harmonized Tariff Schedule of the United States (HTSUS), the United States maintains TRQs for imports of raw cane and refined sugar.

Section 404(d)(3) of the Uruguay Round Agreements Act (19 U.S.C. 3601(d)(3)) authorizes the President to allocate the in-quota quantity of a TRQ for any agricultural product among supplying countries or customs areas. The President delegated this authority to the U.S. Trade Representative under Presidential Proclamations 6763 and 7235 (60 FR 1007 and 64 FR 197).

On July 15, 2019, USTR announced that the FY2020 specialty sugar TRQ of 171,656 MTRV would be administered in the following way. See 84 FR 33798. The first tranche of 1,656 MTRV was to open October 1, 2019, and all types of specialty sugars would be eligible for entry under this tranche. The second tranche of 50,000 MTRV was to open on October 9, 2019. The third tranche of 50,000 MTRV was to open on January 22, 2020. The fourth tranche of 35,000 MTRV was to open on April 15, 2020. The fifth tranche of 35,000 MTRV was to open on July 15, 2020.

When the third tranche opened on January 22, 2020, U.S. Customs and Border Protection allowed the tranche to be filled in the quantity of 55,000 MTRV, rather than the 50,000 MTRV intended, based on a typo in the U.S. Department of Agriculture's announcement of June 27, 2019. See 84 FR 30691. To correct this quantity in order to limit entries to the total amount established at 171,656 MTRV, USTR is reducing the quantity of the fifth tranche by 5,000 MTRV to 30,000 MTRV. USTR is combining the fourth tranche of 35,000 MTRV, and the fifth tranche of 30,000 MTRV, into a combined special tranche of 65,000 MTRV, which will open on March 30, 2020.

Gregory Doud,
Chief Agricultural Negotiator, Office of the United States Trade Representative.

[FR Doc. 2020-06284 Filed 3-25-20; 8:45 am]

BILLING CODE 3290-F0-P